DEPARTMENT OF THE INTERIOR

Bureau of Land Management

[LLUTG01100-09-L13100000-EJ0000]

Notice of Intent To Prepare an Environmental Impact Statement and To Conduct Public Scoping for the Monument Butte Area Oil and Gas Development Project, Duchesne and Uintah Counties, UT

AGENCY: Bureau of Land Management, Interior.

ACTION: Notice of intent.

SUMMARY: Pursuant to Section 102(2)(C) of the National Environmental Policy Act (NEPA) of 1969, the Bureau of Land Management (BLM), Vernal Field Office, Vernal, Utah, will prepare an Environmental Impact Statement (EIS) to study the impacts of various development alternatives for oil and natural gas resources in the Monument Butte Area. This notice announces the public scoping period.

DATES: A 30-day public scoping period will commence the date this notice is published in the Federal Register. Comments on issues, potential impacts, or suggestions for alternatives can be submitted in writing to the address listed below by September 24, 2010. Public meetings will be conducted during the scoping period in Duchesne and Vernal, Utah. The date, place, and time will be announced through the local news media and the BLM Web site http://www.blm.gov/ut/st/en/fo/vernal/planning.html at least 15 days prior to the meetings.

ADDRESSES: Comments may be submitted by any of the following methods:

• Mail: Bureau of Land Management, Vernal Field Office, 170 South 500 East, Vernal, Utah 84078.

• E-mail: UT_Vernal_Comments@blm.gov.

• Fax: (435) 781-4410.

FOR FURTHER INFORMATION CONTACT: Mark Wimmer, BLM Project Lead, at (435) 781-4400.

SUPPLEMENTARY INFORMATION: This document provides notice that the BLM Vernal Field Office, Vernal, Utah, intends to prepare an EIS and hold a public scoping period. The purpose of the public scoping process is to determine relevant issues that will influence the scope of the environmental analysis and EIS alternatives. You may submit comments in writing to the BLM at the public scoping meetings, or you may submit them to the BLM using one of the methods listed in the ADDRESSES section above. The public is encouraged to participate during the scoping process to help identify issues of concern related to the proposed action, determine the depth of the analysis needed for issues addressed in the EIS, identify potential mitigation measures, and identify reasonable alternatives to be evaluated in the EIS.

When submitting your comments, please reference the Monument Butte EIS for BLM's recordkeeping purposes. Before including your address, phone number, e-mail address, or other personal identifying information in your comment, you should be aware that your entire comment—including your personal identifying information—may be made publicly available at any time. While you can ask us in your comment to withhold your personal identifying information from public review, we cannot guarantee that we will be able to do so.

The Vernal Field Office's Approved Resource Management Plan, RMP, (October 2008) directs the management of BLM-administered public lands within the analysis area. Implementation of oil and gas development in the Monument Butte Project Area would conform to all applicable conditions and requirements in the Vernal RMP.

The project and EIS will encompass approximately 119,830 acres in Duchesne and Uintah Counties, Utah. The project is located on lands administered by the BLM (103,912 acres), the BIA-Uintah and Ouray Agency (36 acres), the State of Utah (12,866 acres), and private interests (3,016 acres). Mineral interests are owned by the BLM (89 percent), the State of Utah (10 percent), and private interests (less than 1 percent).

The Monument Butte oil and gas field has been largely developed. The proposed action consists of secondary recovery using waterflood methods and deep gas drilling. Waterflood methods involve the injection of water through formerly producing or new wells into the oil-producing geologic formation. Nearby actively producing wells then extract the hydrocarbons through the formation as the water displaces the oil. In addition to waterflood plans, some portions of the project area along the northwest and southern project boundaries would be subject to step out development (expansion away from existing development).

Integral to the project is the phased installation of a field electrification system in the project area to be completed over approximately 7 years. Electrical power would then be used to run water treatment and injection facilities, centralized tank batteries, compressor stations, engines and turbines at the proposed gas processing plant, and at most well site facilities to power dehydrators, separators, and pump jacks.

The project includes a total of 5,750 wells consisting of: 750 vertical oil wells (to be converted to injection wells for waterflood recovery), 2,500 directional oil wells, 2,500 vertical deep gas wells, 238 miles of new access road, 361 miles of upgraded road, 599 miles of rights-of-way (some collocated with roads), 20 new compressor stations, expansion of 3 existing compressor stations, 8 new and expansion of 6 existing electric water treatment and injection facilities, 12 new and expansion of 2 existing centralized tank batteries, 1 new 50 MMscf/d (Million standard cubic feet per day) centralized gas processing plant, 599 miles of overhead or buried electrical distribution/transmission lines for field-wide electrification, 1 freshwater collector well for waterflood operations, and 6 new 200-hp water pump stations.

The following resources have been identified by the Vernal Field Office as potentially impacted by the Monument Butte Project: Air quality, cultural resources, livestock grazing, paleontological resources, recreation, socioeconomics, soil resources, Pariette and Lower Green River Areas of Critical Environmental Concern, suitable Lower Green River Wild and Scenic River segment, wilderness characteristics, threatened or endangered plant species, vegetation, visual resources, water resources, and wildlife. This is not an all-inclusive list, but rather a starting point for public input and a means of identifying resource disciplines needed to conduct the analysis.

Juan Palma,
State Director.

[FR Doc. 2010-21184 Filed 8-24-10; 8:45 am]

BILLING CODE 4310-DQ-P